DEPARTMENT OF EDUCATION

Applications for New Awards; High School Career and Technical Education Teacher Pathway Initiative

AGENCY: Office of Career, Technical, and Adult Education, Department of Education.

ACTION: Notice.

SUMMARY: The Department of Education is issuing a notice inviting applications for new awards for fiscal year (FY) 2017 for the High School Career and Technical Education Teacher Pathway Initiative, Catalog of Federal Domestic Assistance (CFDA) number 84.051D.

DATES:

Applications Available: June 13, 2017.

Deadline for Notice of Intent to Apply: July 13, 2017.

Date of Pre-Application Webinar: For information about a pre-application webinar, visit the Perkins Collaborative Resource Network (PCRN) at http://cte.ed.gov/.

Deadline for Transmittal of Applications: July 28, 2017.

Deadline for Intergovernmental Review: September 26, 2017.

FOR FURTHER INFORMATION CONTACT: Laura Messenger, U.S. Department of Education, 400 Maryland Avenue SW., Potomac Center Plaza (PCP), Room 11028, Washington, DC 20202-7241. Telephone: (202) 245-7840 or by fax at (202) 245-7170.

If you use a telecommunications device for the deaf (TDD) or a text telephone (TTY), call the Federal Relay Service (FRS), toll free, at 1-800-877-8339.

SUPPLEMENTARY INFORMATION:

Full Text of Announcement

I. Funding Opportunity Description

Purpose of Program

The purpose of the High School Career and Technical Education (CTE) Teacher Pathway Initiative is to improve CTE programs assisted under the Carl D. Perkins Career and Technical Education Act of 2006 (the Perkins Act) by increasing the supply of high school CTE teachers available to teach students in CTE programs that align to In-Demand Industry Sectors or Occupations ¹ in States and communities where shortages of such teachers exist.

¹ Throughout this notice, all defined terms are denoted with initial capitals.

Background

Forty-two Governors have delivered their 2017 State of the State addresses, and workforce development and CTE have emerged as a strong priority—the second most popular education topic mentioned in Governors' State of the State addresses, after school financing.² In addition, while the need for CTE programming aligned to labor market demands is high,³ many States and local school districts are reporting significant shortages of CTE teachers. Data reported to the Department of Education in 2016, for example, show that 32 States are experiencing shortages of CTE teachers.⁴ In response to the 2011-2012 Schools and Staffing Survey administered by the National Center for Education Statistics (NCES), 57 percent of public high schools with CTE teacher vacancies reported that CTE teacher vacancies were difficult to fill, while only 39 percent of public high schools with vacancies in any academic field reported having difficulty filling such vacancies.⁵

² Rafa, A., and Rogowski, D. “Governors' Top Education Priorities: 2017 State of the State addresses.” Education Commission of the States, March 2017. www.ecs.org/ec-content/uploads/Governors%E2%80%99-Top-Education-Priorities-2017-State-of-the-State-addresses.pdf.

³ See, e.g., Georgia High-Demand Initiative. www.georgia.org/competitive-advantages/workforce-division/programs-initiatives/high-demand-career-initiative-hdci/; Ohio In-Demand Jobs Reports. workforce.ohio.gov/Initiatives/InDemandJobs.aspx.

⁴ U.S. Department of Education, Office of Postsecondary Education. Teacher Shortage Areas: Nationwide Listing: 1990-1991 through 2015-2016, March 2015. www2.ed.gov/about/offices/list/ope/pol/tsa.pdf.

⁵ U.S. Department of Education, Office of Career, Technical, and Adult Education. Career and Technical Education Teachers and Schools: Results from the 2011-12 Schools and Staffing Survey, Washington, DC, Forthcoming.

Several factors contribute to overall teacher shortages in many States and communities, including a decline in teacher preparation program enrollments, increasing student enrollments, and high teacher attrition rates.⁶ Other factors are more specific to the CTE teacher shortage, such as increased student demand for CTE programming in some occupational areas, an increased State focus on CTE as a mechanism for teaching key competencies and skills as part of an integrated science, technology engineering and math (STEM) strategy,⁷ declines in many CTE teacher preparation programs,⁸ and teacher salaries that cannot compete with private industry salaries in high-tech fields.⁹

⁶ Sutcher, L., Darling-Hammond, L., & Carver-Thomas, D. “A Coming Crisis in Teaching? Teacher Supply, Demand, and Shortages in the U.S.” Learning Policy Institute, December 2016. learningpolicyinstitute.org/sites/default/files/product-files/A_Coming_Crisis_in_Teaching_REPORT.pdf.

⁷ See, e.g., Georgia High-Demand Initiative. www.georgia.org/competitive-advantages/workforce-division/programs-initiatives/high-demand-career-initiative-hdci/; Tennessee Department of Education STEM Strategic Plan. https://tn.gov/assets/entities/education/attachments/ccte_stem_strategic_plan.pdf.

⁸ Fletcher Jr., E., Gordon, H., Asunda, P., Zirkle, C. “A 2015 Status Study of Career and Technical Education Programs in the United States.” Career and Technical Education Research, Volume 40, Number 3, December 2015. www.tandfonline.com/doi/full/10.1080/0161956X.2017.1302219191-211(21).

⁹ Fensterwald, J. “Supply Lags Booming Demand for Career Technical Teachers.” Ed Source, April 28, 2016. edsource.org/2016/supply-lags-booming-demand-for-career-technical-teachers/563476.

Several States are working to increase the number of CTE teachers, including through changes to laws and regulations. A majority of States have implemented alternative certification requirements for individuals seeking to become CTE teachers.¹⁰ States often grant short-term licenses to new teachers who have achieved a certain education level, attained a requisite number of hours of work experience in the technical field, and hold industry certifications in their fields.¹¹ Most alternatively certified CTE teachers still receive teacher preparation, either through formal coursework or professional development, before they receive full certification.¹² Some States have recently revised licensure requirements that grant provisional teaching licenses to CTE applicants without the requirement of a four-year college degree.¹³ In these pathways, teachers may move up to longer-term teaching licenses through training and experience. Several States also report having policies that certify industry experts to teach CTE courses part-time, similar to an adjunct faculty position at the postsecondary level.¹⁴ Some districts and States are pursuing partnerships between colleges with teacher preparation programs and technical colleges to ensure a seamless, within-State pipeline for certified CTE teachers.¹⁵

¹⁰ “The State of Career and Technical Education: Increasing Access to Industry Experts in High Schools.” Advance CTE, The Council of Chief State School Officers, December 2016. www.careertech.org/resource/state-of-cte-increasing-access-to-industry-experts.

¹¹ Bonsu, P., et al. “Career and Technical Education Teacher Licensure Requirements: 50 States and the District of Columbia,” American Institutes for Research, June 2013, www.careertech.org/resource/CTE-teacher-licensure-requirements.

¹² “The State of Career and Technical Education: Increasing Access to Industry Experts in High Schools.” Advance CTE, The Council of Chief State School Officers, December 2016. www.careertech.org/resource/state-of-cte-increasing-access-to-industry-experts.

¹³ Quinton, S. “States want more career and technical training, but struggle to find teachers.” Stateline, April 9, 2017. www.pbs.org/newshour/rundown/states-want-career-technical-training-struggle-find-teachers/.

¹⁴ “The State of Career and Technical Education: Increasing Access to Industry Experts in High Schools.” Advance CTE, The Council of Chief State School Officers, December 2016. www.careertech.org/resource/state-of-cte-increasing-access-to-industry-experts.

¹⁵ See, e.g., Teacher Preparation Pipeline: Preparing California's STEM and CTE teachers, teacherpipeline.com/. Luczak, J., Viashnav, A., and Horwath, B. “Ensuring High-Quality Teacher Talent: How Strong District-Teacher Preparation Program Partnerships are Transforming the Teacher Pipeline.” Education First, March 2016. education-first.com/library/publication/ensuring-high-quality-teacher-talent/.

Some school districts facing shortages of CTE teachers are considering new pipelines to hire and retain CTE teachers. For example, one large, urban school district has identified teachers who had worked in industry and are interested in a CTE credential. Other districts, through partnerships with local industry and local government agencies, are offering teachers interested in earning a CTE credential the opportunity to earn the required 1,000 hours of industry experience during the school day and through paid summer externships.¹⁶

¹⁶ Fensterwald, J. “Supply Lags Booming Demand for Career Technical Teachers,” Ed Source, April 28, 2016. edsource.org/2016/supply-lags-booming-demand-for-career-technical-teachers/563476.

Some districts across the country are utilizing more strategic hiring practices, offering signing bonuses and traveling out of State to recruit teachers. Through local partnerships, some communities with a high cost of living are offering housing as a means to attract new teachers.¹⁷ In addition, persons with disabilities, including military veterans with service-connected disabilities, offer an often overlooked talent pool that can be tapped to address teacher shortages. For example, individuals who are unable to continue to work in a trade or profession due to a disability may excel at sharing their technical skills with students as CTE instructors.

¹⁷ Park, M. “High-Rent School Districts Build Homes for Teachers,” USA Today, March 26, 2016. www.usatoday.com/story/news/2016/03/21/school-districts-build-teacher-housing/81583792/.

Rural districts often struggle with teacher shortages across many subject areas, but shortages in CTE often result in a lack of access to CTE programming connected to local or regional labor demands. Partnerships with institutions of higher education that offer alternative teacher certification programs to community members who are interested in staying in the community while earning a CTE teacher credential, often referred to as “grow your own” models, are another approach that may assist rural and smaller communities in addressing the CTE teacher shortage.¹⁸

¹⁸ “Elevating Support for Texas Rural and Small Schools.” Texas Rural Schools Task Force Report, March 2017. www.tasb.org/Services/HR-Services/Hrexchange/2017/January-2017,-Vol-1/b-recruiting-in-rural-districts.aspx.

If left unaddressed, the high school CTE teacher shortage will limit State and local capacity to deliver CTE programs for In-demand Industry Sectors or Occupations. Through this competition, under the Secretary's authority in section 114(c) of the Perkins Act to carry out capacity building and provide technical assistance to Perkins grantees with regard to the CTE programs under the Perkins Act, the Secretary will support State and local efforts to increase the supply and quality of high school CTE teachers in In-Demand Industry Sectors or Occupations in States and communities where such shortages exist.

Priorities: This notice contains one absolute priority and one invitational priority. We are establishing the absolute priority for the FY 2017 grant competition and any subsequent year in which we make awards from the list of unfunded applications from this competition, in accordance with section 437(d)(1) of the General Education Provisions Act (GEPA), 20 U.S.C. 1232(d)(1).

Absolute Priority: The following priority is an absolute priority. Under 34 CFR 75.105(c)(3) we consider only applications that meet this absolute priority.

This priority is:

Cash or In-Kind Matching.

To meet this priority, an applicant must provide, from other Federal or non-Federal sources, a cash or in-kind match that is equal to or greater than 20 percent of the amount of the requested grant award amount, calculated consistent with 2 CFR part 200.306. Each applicant, in its application, must provide a signed assurance attesting to its intent and ability to meet this requirement, and must include its matching contribution in its budget for the proposed project. Applicants may propose to use funds available to them under the Perkins Act to meet this matching requirement.

Invitational Priority: This priority is an invitational priority. Under 34 CFR 75.105(c)(1), we do not give an application that meets this invitational priority any preference over other applications.

This priority is:

Rural Local Educational Agencies (LEAs).

The Secretary is particularly interested in receiving applications that propose a state-wide or regional approach to increasing the supply and quality of high school CTE teachers in In-demand Industry Sectors or Occupations in LEAs that are eligible for assistance under the Small Rural School Achievement (SRSA) program or the Rural and Low-Income School (RLIS) program authorized under Title VI, Part B of the Elementary and Secondary Education Act of 1965, as amended.

Note: Eligible applicants may determine whether a particular LEA is eligible for these programs by referring to information on the Department's Web site at www2.ed.gov/nclb/freedom/local/reap.html.

Requirements: We are establishing the following three application requirements and three program requirements for the FY 2017 grant competition and any subsequent year in which we make awards from the list of unfunded applications from this competition, in accordance with section 437(d)(1) of GEPA, 20 U.S.C. 1232(d)(1).

The application requirements are:

(1) Each applicant must identify the category under which the applicant meets the eligibility requirements set forth under Eligible Applicants in section III of this notice and provide an assurance from the authorizing representative that the applicant is an eligible applicant.

(2) Each applicant, in its application, must provide a signed assurance attesting to its intent and ability to meet the matching requirement in the Absolute Priority, and must include its matching contribution in its budget for the proposed project.

(3) Each applicant must submit a Logic Model demonstrating that the proposed project is supported by a Strong Theory by providing a graphic depiction (suggested length of no longer than one page) and a narrative explanation of the project's Logic Model, to illustrate how the applicant's proposed project will achieve intended outcomes and increase recruitment and retention of high school CTE teachers for CTE programs that align to an In-Demand Industry Sector or Occupation.

The program requirements are:

Requirement 1—Use of Funds:

A grantee must carry out one or more activities designed to increase recruitment and retention of high school CTE teachers for CTE programs that align to an In-Demand Industry Sector or Occupation, in States or communities where shortages of such teachers exist, such as—

(a) Establishing, improving, or expanding activities to recruit high school CTE teachers for CTE programs that align to an In-demand Industry Sector or Occupation;

(b) Establishing, improving, or expanding alternative routes for State certification of high school CTE teachers for CTE programs that align to an In-Demand Industry Sector or Occupation;

(c) Establishing, improving, or expanding teacher induction and mentoring programs to improve the preparation and retention of new high school CTE teachers for CTE programs that align to an In-Demand Industry Sector or Occupation;

(d) Establishing, improving, or expanding local partnerships of community organizations, institutions of higher education, and school districts that support mid-career business and industry professionals, military veterans, parents, students, community members, and paraprofessionals in becoming CTE teachers for CTE programs that align to an In-Demand Industry Sector or Occupation;

(e) Establishing, improving, or expanding Teacher Residency Programs, as defined in this notice, to recruit and retain high school CTE teachers for CTE programs that align to an In-Demand Industry Sector or Occupation;

(f) Implementing differential pay, or other financial incentives, such as signing bonuses, student loan repayment, or scholarships, to recruit and retain high school CTE teachers for CTE programs that align to an In-Demand Industry Sector or Occupation;

(g) Establishing or redesigning teacher preparation programs to better meet the demand for effective high school CTE teachers for CTE programs that align to an In-Demand Industry Sector or Occupation;

(h) Establishing or expanding interstate teacher certification or licensure reciprocity agreements to enable CTE teachers who are licensed or certified in one State to teach in another State without completing additional licensure or certification requirements in CTE programs that align to an In-Demand Industry Sector or Occupation; and

(i) Developing and implementing programs and initiatives to remove barriers to recruiting and retaining high school CTE teachers for CTE programs that align to an In-Demand Industry Sector or Occupation.

Requirement 2—Partnerships:

A grantee must carry out a High School CTE Teacher Pathway Initiative project in collaboration with partner organizations such as community organizations, institutions of higher education, school districts, State or local agencies, or businesses. An applicant must identify the partner organizations included in its application and include a letter of commitment from each entity with which it will partner to implement the proposed project.

Requirement 3—Cooperation in Federal Evaluation:

Under 34 CFR 75.591, all grantees must cooperate in any evaluation of the program conducted by the Department.

Definitions

The definitions of Career and Technical Education and Eligible Institution are from section 3 of the Perkins Act (20 U.S.C. 2301 et seq.). The definition of In-Demand Industry Sector or Occupation is from section 3 of the Workforce Innovation and Opportunity Act (29 U.S.C. 3102). The definitions of Logic Model and Strong Theory are from 34 CFR 77.1. The definition of Teacher Residency Program is from section 2002 of the Elementary and Secondary Education Act of 1965 (20 U.S.C. 6301).

Career and Technical Education means organized educational activities that—

(1) Offer a sequence of courses that—

(a) Provides individuals with coherent and rigorous content aligned with challenging academic standards and relevant technical knowledge and skills needed to prepare for further education and careers in current or emerging professions;

(b) Provides technical skill proficiency, an industry-recognized credential, a certificate, or an associate degree; and

(c) May include prerequisite courses (other than a remedial course) that meet the requirements of this definition; and

(2) Include competency-based applied learning that contributes to the academic knowledge, higher-order reasoning and problem-solving skills, work attitudes, general employability skills, technical skills, and occupation-specific skills, and knowledge of all aspects of an industry, including entrepreneurship, of an individual.

Eligible Institution means (1) a public or nonprofit private institution of higher education that offers CTE courses that lead to technical skill proficiency, an industry-recognized credential, a certificate, or a degree; (2) an LEA providing education at the postsecondary level; (3) an area CTE school providing education at the postsecondary level; (4) a postsecondary educational institution controlled by the Bureau of Indian Affairs or operated by or on behalf of any Indian Tribe that is eligible to contract with the Secretary of the Interior for the administration of programs under the Indian Self-Determination and Education Assistance Act (925 U.S.C. 450 et seq.) or the Act of April 16, 1934 (25 U.S.C. 452 et seq.); (5) an educational service agency; or (6) a consortium of two or more of the entities described in (1) through (5).

In-demand Industry Sector or Occupation means—

(A)(1) An industry sector that has a substantial current or potential impact (including through jobs that lead to economic self-sufficiency and opportunities for advancement) on the State, regional, or local economy, as appropriate, and that contributes to the growth or stability of other supporting businesses, or the growth of other industry sectors; or

(2) An occupation that currently has or is projected to have a number of positions (including positions that lead to economic self-sufficiency and opportunities for advancement) in an industry sector so as to have a significant impact on the State, regional, or local economy, as appropriate.

(B) The determination of whether an industry sector or occupation is in-demand under this definition shall be made by the State board or local board,¹⁹ as appropriate, using State and regional business and labor market projections, including the use of labor market information.

¹⁹ The State board or local board in this instance is the board under sections 101 and 107, respectively, of the Workforce Innovation and Opportunity Act (29 U.S.C. 3102), not the Perkins State board listed as an eligible entity.

Logic Model (also referred to as theory of action) means a well-specified conceptual framework that identifies key components of the proposed process, product, strategy, or practice (i.e., the active “ingredients” that are hypothesized to be critical to achieving the relevant outcomes) and describes the relationships among the key components and outcomes, theoretically and operationally.

Strong Theory means a rationale for the proposed process, product, strategy, or practice that includes a Logic Model.

Teacher Residency Program means a school-based teacher preparation program in which a prospective teacher—

(1) For not less than one academic year, teaches alongside an effective teacher, as determined by the State or LEA, who is the teacher of record for the classroom;

(2) Receives concurrent instruction during the year described in paragraph (1)—

(a) Through courses that may be taught by LEA personnel or by faculty of the teacher preparation program; and

(b) In the teaching of the content area in which the teacher will become certified or licensed; and

(3) Acquires effective teaching skills, as demonstrated through completion of a residency program, or other measure determined by the State, which may include a teacher performance assessment.

Waiver of Proposed Rulemaking: Under the Administrative Procedure Act (5 U.S.C. 553), the Department generally offers interested parties the opportunity to comment on proposed priorities and requirements. Section 437(d)(1) of GEPA, however, allows the Secretary to exempt from rulemaking requirements, regulations governing the first grant competition under a new or substantially revised program authority. This is the first grant competition to address the CTE teacher shortage under section 114(c)(1) of the Act, and therefore qualifies for this exemption. In order to ensure timely grant awards, the Secretary has decided to forgo public comment on the absolute priority and requirements under section 437(d)(1) of GEPA. The absolute priority and requirements will apply to the FY 2017 grant competition and any subsequent year in which we make awards from the list of unfunded applications from this competition.

Program Authority: 20 U.S.C. 2324.

Applicable Regulations: (a) The Education Department General Administrative Regulations in 34 CFR parts 75, 77, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474.

Note: The regulations in 34 CFR part 86 apply to institutions of higher education only.

II. Award Information

Type of Award: Discretionary grants.

Estimated Available Funds: $3,600,102 for one 36-month project period.

Estimated Range of Awards: $350,000 to $900,000 for one 36-month project period.

Estimated Average Size of Awards: $625,000.

Estimated Number of Awards: 5-7.

Note: The Department is not bound by any estimates in this notice.

Project Period: Up to 36 months. Applicants under this competition are required to provide detailed budget information for each year of the proposed project and for the total grant, including their matching contribution.

III. Eligibility Information

1. Eligible Applicants: The following entities are eligible to apply under this competition:

(a) A State board designated or created consistent with State law as the sole State agency responsible for the administration of CTE in the State or for the supervision of the administration of CTE in the State;

(b) An LEA (including a public charter school that operates as an LEA), an area CTE school, an educational service agency, or a consortium of such entities, in each case, that receives assistance under section 131 of the Act;

(c) An Eligible Institution that receives assistance under section 132 of the Act.

Note: Eligible applicants proposing to apply for funds as a consortium must comply with the regulations in 34 CFR 75.127 through 75.129, which address group applications.

2. a. Cost Sharing or Matching: This initiative requires cost sharing or matching.

b. Supplement-not-Supplant: This program is subject to supplement-not-supplant funding requirements. In accordance with section 311(a) of the Act, 20 U.S.C. 2391(a), funds under this program may not be used to supplant non-Federal funds used to carry out CTE activities. Further, the prohibition against supplanting also means that grantees will be required to use their negotiated restricted indirect cost rates under this program. (34 CFR 75.563)

IV. Application and Submission Information

1. Address to Request Application Package: Laura Messenger, U.S. Department of Education, 400 Maryland Avenue SW., PCP, Room 11028, Washington, DC 20202-7241. FAX: (202) 245-7170. Telephone: (202) 245-7840 or by email: CTEteachergrant@ed.gov.

If you use a TDD or a TTY, call the FRS, toll free, at 1-800-877-8339.

Individuals with disabilities can obtain a copy of the application package in an accessible format (e.g., Braille, large print, audiotape, or compact disc) by contacting the program contact person listed in this section.

2. a. Content and Form of Application Submission: Requirements concerning the content and form of an application, together with the forms you must submit, are in the application package for this program.

Notice of Intent to Apply: We will be able to develop a more efficient process for reviewing grant applications if we can anticipate the number of applicants that intend to apply for funding under this competition. Therefore, we strongly encourage each potential applicant to notify us of the applicant's intent to submit an application for funding by sending a short email message. This short email should provide the applicant organization's name and address. Please send this email notification to CTEteachergrant@ed.gov with “Intent to Apply” in the email subject line. Applicants that do not provide this email notification may still apply for funding.

Page Limit: The application narrative is where you, the applicant, address the selection criteria that reviewers use to evaluate your application. We recommend that you (1) limit the application narrative to no more than 35 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Calibri, or Arial.

The recommended page limit does not apply to the cover sheet; the budget section, including the narrative budget justification; the assurances and certifications; or the one-page abstract, the resumes, the bibliography, or the letters of support. However, the recommended page limit does apply to all of the application narrative.

b. Submission of Proprietary Information: Given the types of projects that may be proposed, your application may include business information that the applicant considers proprietary. In 34 CFR 5.11 we define “business information” and describe the process we use in determining whether any of that information is proprietary and, thus, protected from disclosure under Exemption 4 of the Freedom of Information Act (5 U.S.C. 552, as amended).

Because we plan to make successful applications available to the public upon request, you may wish to request confidentiality of business information. Consistent with Executive Order 12600, please designate in your application any information that you believe is exempt from disclosure under Exemption 4. In the appropriate Appendix section of your application, under “Other Attachments Form,” please list the page number or numbers on which we can find this information. For additional information please see 34 CFR 5.11(c).

3. Submission Dates and Times:

Applications Available: June 13, 2017.

Deadline for Notice of Intent to Apply: July 13, 2017.

Deadline for Transmittal of Applications: July 28, 2017.

A pre-application webinar will be held for this competition shortly after the date that this notice will publish. The webinar is intended to provide technical assistance to all interested grant applicants. Information regarding the pre-application webinar can be found on the Perkins Collaborative Resource Network at http://cte.ed.gov/.

Applications for grants under this program must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under FOR FURTHER INFORMATION CONTACT. If the Department provides an accommodation or auxiliary aid to an individual with a disability in connection with the application process, the individual's application remains subject to all other requirements and limitations in this notice.

Deadline for Intergovernmental Review: September 26, 2017.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements:

Applications for grants under this program must be submitted electronically unless you qualify for an exception to this requirement in accordance with the instructions in this section.

a. Electronic Submission of Applications.

Applications for grants under the High School CTE Teacher Pathway Initiative, CFDA number 84.051D, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the High School CTE Teacher Pathway Initiative competition at www.Grants.gov. You must search for the downloadable application package for this program by the CFDA number. Do not include the CFDA number's alpha suffix in your search (e.g., search for 84.051, not 84.051D).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a read-only, non-modifiable, flattened Portable Document Format (PDF), meaning any fillable PDF documents must be saved as flattened, non-fillable files. Therefore, do not upload an interactive or fillable PDF file. If you upload a file type other than a read-only, flattened PDF (e.g., Word, Excel, WordPerfect, etc.) or submit a password-protected file, we will not review that material. Please note that this could result in your application not being considered for funding because the material in question—for example, the application narrative—is critical to a meaningful review of your proposal. For that reason it is important to allow yourself adequate time to upload all material as read-only, non-modifiable, flattened PDF files. The Department will not convert material from other formats to PDF. There is no need to password protect a file in order to meet the requirement to submit a read-only, non-modifiable, flattened PDF. And, as noted above, the Department will not review password protected files.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, flattened PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the internet to submit your application.

If you mail your written statement to the Department, it must be postmarked no later than two weeks before the application deadline date. If you fax your written statement to the Department, we must receive the faxed statement no later than two weeks before the application deadline date.

Address and mail or fax your statement to: Laura Messenger, U.S. Department of Education, 400 Maryland Avenue SW., PCP, Room 11028, Washington, DC 20202-7241. FAX: (202) 245-7170.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address:

U.S. Department of Education, Application Control Center, Attention: (CFDA Number 84.051D), 550 12th Street SW., Room 7039, Potomac Center Plaza, Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address:

U.S. Department of Education, Application Control Center, Attention: (CFDA Number 84.051D), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210. The maximum score for all the selection criteria is 100 points. The maximum score for each criterion is indicated in parentheses. In addressing the criteria, applicants are encouraged to make explicit connections to the priorities and requirements listed elsewhere in this notice. The selection criteria for this competition are as follows:

(a) Need for the project. (20 points)

The Secretary considers the need for the proposed project. In determining the need for the proposed project, the Secretary considers—

(1) The magnitude or severity of the problem to be addressed by the proposed project. (up to 10 points)

(2) The extent to which the proposed project will prepare personnel for fields in which shortages have been demonstrated. (up to 10 points)

(b) Quality of the project design. (50 points)

The Secretary considers the quality of the project design. In determining the quality of the project design for the proposed project, the Secretary considers—

(1) The extent to which the proposed project is supported by Strong Theory, as defined in this notice. (up to 10 points)

(2) The likelihood that the proposed project will result in system change or improvement. (up to 20 points)

(3) The extent to which the services to be provided by the proposed project involve the collaboration of appropriate partners for maximizing the effectiveness of project services. (up to 10 points)

(4) The extent to which the design of the proposed project is appropriate for, and will successfully address, the needs of the target population or other identified needs. (up to 10 points)

(c) Adequacy of resources (30 points).

The Secretary considers the adequacy of resources for the proposed project. In determining the adequacy of resources for the proposed project, the Secretary considers—

(1) The extent to which the budget is adequate to support the proposed project. (up to 10 points)

(2) The relevance and demonstrated commitment of each partner in the proposed project to the implementation and success of the project. (up to 10 points)

(3) The potential for continued support of the project after Federal funding ends, including, as appropriate, the demonstrated commitment of appropriate entities to such support. (up to 10 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

3. Risk Assessment and Special Conditions: Consistent with 2 CFR 200.205, before awarding grants under this program the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.117. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

4. Performance Measures: Pursuant to the Government Performance and Results Act of 1993, the Department has established the following performance measures that it will use to evaluate the overall effectiveness of the grantee's project, as well as the High School CTE Teacher Pathway Initiative as a whole:

(a) An increase in the number of individuals recruited and hired to be high school CTE teachers for CTE programs that align to an In-Demand Industry Sector or Occupation; and

(b) An increase in the retention rate of high school CTE teachers for CTE programs that align to an In-Demand Industry Sector or Occupation.

In addition to these measures, applicants may establish interim or other measures that they think will be useful in measuring positive project outcomes, such as: an increase in the number of induction or mentoring programs being implemented for new and returning high school CTE teachers; an increase in the number of individuals teaching in high school CTE programs under emergency or alternative credentials; an increase in the number of high school CTE teachers participating in induction and mentoring programs; or an increase in the number of new and returning high school CTE teachers who express satisfaction with the level of induction and mentoring support that they have received. Grantees will be responsible for collecting and reporting data annually on the required performance measures as well as any other performance measures they choose to establish for their High School CTE Teacher Pathway Initiative project.

VII. Other Information

Accessible Format: Individuals with disabilities can obtain this document and a copy of the application package in an accessible format (e.g., braille, large print, audiotape, or compact disc) on request to the program contact person listed under FOR FURTHER INFORMATION CONTACT. If you use a TDD or a TTY, call the FRS, toll free, at 1-800-877-8339.

Electronic Access to This Document: The official version of this document is the document published in the Federal Register. Free internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: June 7, 2017.
Kim R. Ford,
Delegated the Duties of the Assistant Secretary for Career, Technical, and Adult Education.

[FR Doc. 2017-12132 Filed 6-12-17; 8:45 am]

BILLING CODE 4000-01-P